DEPARTMENT OF TRANSPORTATION

Federal Aviation Administration

14 CFR Part 71

[Docket No. FAA-2020-0396; Airspace Docket No. 20-AGL-21]

RIN 2120-AA66

Amendment of Class D and Class E Airspace, Revocation of Class E Airspace, and Establishment of Class E Airspace; Multiple Ohio Towns

AGENCY: Federal Aviation Administration (FAA), DOT.

ACTION: Final rule.

SUMMARY: This action amends the Class D airspace and Class E surface airspace at Wright-Patterson AFB, Dayton, OH, and Wilmington Air Park, Wilmington, OH; revokes the Class E airspace designated as an extension to Class D and Class E surface area at Wilmington Air Park; amends the Class E airspace extending upward from 700 feet above the surface at multiple Ohio airports; and establishes Class E airspace extending upward from 700 feet above the surface at Springfield-Beckley Municipal Airport, Springfield, OH. This action is the result of airspace reviews caused by the decommissioning of the Springfield VHF omnidirectional range (VOR) navigation aid as part of the VOR Minimum Operational Network (MON) Program, and the decommissioning of the Springfield localizer and glideslope at Springfield-Beckley Municipal Airport. The names and geographic coordinates of multiple Ohio airports are also being updated to coincide with the FAA's aeronautical database.

DATES: Effective 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace and Class E surface airspace at Wright-Patterson AFB, Dayton, OH, and Wilmington Air Park, Wilmington, OH; revokes the Class E airspace designated as an extension to Class D and Class E surface area at Wilmington Air Park; amends the Class E airspace extending upward from 700 feet above the surface at Dayton-Phillipsburg Airport, Dayton, OH; Dayton-Wright Brothers Airport, Dayton, OH; Greene County-Lewis A. Jackson Regional Airport, Dayton, OH; James M. Cox Dayton International Airport, Dayton, OH; Wright-Patterson AFB; Grimes Field, Urbana, OH; and Wilmington Air Park; and establishes Class E airspace extending upward from 700 feet above the surface at Springfield-Beckley Municipal Airport, Springfield, OH, to support instrument flight rule operations at these airports.

History

The FAA published a notice of proposed rulemaking in the Federal Register (85 FR 27334; May 8, 2020) for Docket No. FAA-2020-0396 to amend the Class D airspace and Class E surface airspace at Wright-Patterson AFB, Dayton, OH, and Wilmington Air Park, Wilmington, OH; revoke the Class E airspace designated as an extension to Class D and Class E surface area at Wilmington Air Park; amend the Class E airspace extending upward from 700 feet above the surface at Dayton-Phillipsburg Airport, Dayton, OH; Dayton-Wright Brothers Airport, Dayton, OH; Greene County-Lewis A. Jackson Regional Airport, Dayton, OH; James M. Cox Dayton International Airport, Dayton, OH; Wright-Patterson AFB; Grimes Field, Urbana, OH; and Wilmington Air Park; and establish Class E airspace extending upward from 700 feet above the surface at Springfield-Beckley Municipal Airport, Springfield, OH. Interested parties were invited to participate in this rulemaking effort by submitting written comments on the proposal to the FAA. No comments were received.

Class D and E airspace designations are published in paragraph 5000, 6002, 6004, and 6005, respectively, of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class D airspace at Wright-Patterson AFB, Dayton, OH, by removing the Patterson VORTAC and the associated extension, as they are no longer required; adds an extension 1.2 miles each side of the 046° bearing from the airport extending from the 4.6-mile radius to 5.2 miles northeast of the airport; adds an extension 1.2 miles each side of the 228° bearing form the airport extending from the 4.6-mile radius to 4.8 miles southwest of the airport; updates the header of the airspace legal description to Dayton, OH, (previously Dayton, Wright-Patterson AFB, OH) to coincide with the FAA's aeronautical database; removes the city name associated with the airport to comply with changes to FAA Order 7400.2M, Procedures for Handling Airspace Matters; and replaces the outdated term “Airport/Facility Directory” with “Chart Supplement;”

Amends the Class D airspace to within a 4.5-mile (increased from a 4.2-mile) radius of Wilmington Air Park, Wilmington, OH; removes the cities associated with the airports in the airspace legal description to comply with changes to FAA Order 7400.2M; and replaces the outdated term “Airport/Facility Directory” with “Chart Supplement;”

Amends the Class E surface airspace at Wright-Patterson AFB, Dayton, OH, by removing the Patterson VORTAC and the associated extension, as they are no longer required; adds an extension 1.2 miles each side of the 046° bearing from the airport extending from the 4.6-mile radius to 5.2 miles northeast of the airport; adds an extension 1.2 miles each side of the 228° bearing form the airport extending from the 4.6-mile radius to 4.8 miles southwest of the airport; updates the header of the airspace legal description to Dayton, OH, (previously Dayton, Wright-Patterson AFB, OH) to coincide with the FAA's aeronautical database; removes the city name associated with the airport to comply with changes to FAA Order 7400.2M; and replaces the outdated term “Airport/Facility Directory” with “Chart Supplement;”

Amends the Class E surface airspace to within a 4.5-mile (increased from a 4.2-mile) radius of Wilmington Air Park, Wilmington, OH; removes the extensions southwest and northeast of the airport, as they are no longer needed; removes the cities associated with the airports in the airspace legal description to comply with changes to FAA Order 7400.2M; and replaces the outdated term “Airport/Facility Directory” with “Chart Supplement;”

Removes the Class E airspace designated as an extension to Class D and Class E surface areas at Wilmington Air Park, Wilmington, OH, as it is no longer needed;

Amends the Class E airspace extending upward from 700 feet above the surface at Dayton-Phillipsburg Airport (previously Phillipsburg Airport), Dayton, OH by updating the name of the airport to coincide with the FAA's aeronautical database; updates the header of the airspace legal description to Dayton, OH, (previously Phillipsburg, OH) to coincide with the FAA's aeronautical database; and removes the exclusionary language, as it is no longer required;

Amends the Class E airspace extending upward from 700 feet above the surface to within a 6.5-mile (decreased from a 6.6-mile) radius at Dayton-Wright Brothers Airport, Dayton, OH; removes the extension northeast of the airport associated with the Runway 20 Localizer, as it is no longer required; removes the exclusionary language, as it is no longer required; adds an extension within 1.6 miles each side of the 261° bearing from the Onida NDB extending from the 6.5-mile radius of the airport to 9.1 miles west of the airport; and updates the name and the geographic coordinates of Dayton-Wright Brothers Airport (previously Dayton General Airport South) to coincide with the FAA's aeronautical database;

Amends the Class E airspace extending upward from 700 feet above the surface to within a 6.5-mile (increased from a 6.3-mile) radius at Greene County-Lewis A. Jackson Regional Airport, Dayton, OH; removes the extension northeast of the airport, as it is no longer needed; adds an extension within 1 mile each side of the 243° bearing from the airport extending from the 6.5-mile radius to 8.1 miles southwest of the airport; removes the exclusionary language, as it is no longer required; updates the header of the airspace legal description to Dayton, OH, (previously Dayton, Greene County Airport, OH) to coincide with the FAA's aeronautical database; removes the city associated with the airport to comply with changes to FAA Order 7400.2M; and updates the name and geographic coordinates of the Greene County-Lewis A. Jackson Regional Airport (previously Greene County Airport) to coincide with the FAA's aeronautical database;

Amends the Class E airspace extending upward from 700 feet above the surface at Dayton, OH, by removing the bounded area of “. . .bounded by a line beginning at lat. 39°59′00″ N., long. 83°40′00″ W.; to lat. 39°55′00″ N., long. 83°37′00″ W.; to lat. 39°45′00″ N., long. 83°43′00″ W.; to lat. 39°39′00″ N., long. 84°07′00″ W.; to lat. 39°45′00″ N., long. 84°24′00″ W.; to lat. 39°49′00″ N., long. 84°27′00″ W.; to lat. 40°04′06″ N., long. 84°17′45″ W.; to the point of beginning” and replaces it as follows: within a 7.5-mile radius of James M. Cox Dayton International Airport, Dayton, OH; and within 3 miles each side of the 235° bearing from James M. Cox Dayton International Airport: RWY 24R-LOC extending from the 7.5-mile radius of James M. Cox Dayton International Airport to 13.2 miles southwest of the James M. Cox Dayton International Airport: RWY 24R-LOC; and within a 7.1-mile radius of Wright Patterson-AFB, Dayton, OH;

Establishes Class E airspace extending upward from 700 feet above the surface within a 6.9-mile radius of Springfield-Beckley Municipal Airport, Springfield, OH (This airspace was previously covered by the Dayton, OH, Class E airspace extending upward from 700 feet above the surface, but the airspace legal descriptions are being separated to comply with FAA Order 7400.2M and the FAA's aeronautical database.); and within 4 miles each side of the 056° bearing from the Clark County NDB extending from the 6.9-mile radius of the airport to 10.7 miles northeast of the Clark County NDB;

Amends the Class E airspace extending upward from 700 feet above the surface within a 6.5-mile (decreased from an 8.2-mile) radius of Grimes Field, Urbana, OH; removes the city associated with the airport to comply with changes to FAA Order 7400.2M; updates the geographic coordinates of the airport to coincide with the FAA's aeronautical database; and removes the exclusionary language, as it is no longer needed;

And amends the Class E airspace extending upward from 700 feet above the surface at Wilmington Air Park by removing the Midwest VOR/DME and associated extensions from the airspace legal description, as they are no longer needed; and adds an extension within 4 miles each side of the 037° bearing from the airport extending from the 7-mile radius to 10.3 miles northeast of the airport; and removes the city associated with the airport to comply with changes to FAA Order 7400.2M.

Subsequent to publication of the NPRM, the FAA discovered that the geographic coordinates of the Onida NDB contained in the Dayton-Wright Brothers Airport, Dayton, OH, Class E airspace extending upward from 700 feet above the surface airspace legal description were incorrect. They have been corrected in this action.

This action is the result of airspace reviews caused by the decommissioning of the Springfield VOR, which provided navigation information for the instrument procedures at these airports, as part of the VOR MON Program, and the decommissioning of the Springfield localizer and glideslope which provided navigation information for the instrument procedures at Springfield-Beckley Municipal Airport.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

AGL OH D Dayton, OH [Amended]

Wright-Patterson AFB, OH

(Lat. 39°49′33″ N, long. 84°02′46″ W)

That airspace extending upward from the surface to and including 3,400 feet MSL within a 4.6-mile radius of Wright-Patterson AFB, and within 1.2 miles each side of the 046° bearing from the airport extending from the 4.6-mile radius to 5.2 miles northeast of the airport, and within 1.2 miles each side of the 228° bearing from the airport extending from the 4.6-mile radius to 4.8 miles southwest of the airport excluding that airspace within the Dayton, James M. Cox-Dayton International Airport, OH, Class C airspace area. This Class D airspace area is effective during the specific dates and times established in advance by Notice to Airmen. The effective date and time will thereafter be continuously published in the Chart Supplement.

* * * * *

AGL OH D Wilmington, OH [Amended]

Wilmington Air Park, OH

(Lat. 39°25′41″ N, long. 083°47′32″ W)

Hollister Field Airport, OH

(Lat. 39°26′15″ N, long. 083°42′30″ W)

That airspace extending upward from the surface to and including 3,600 feet MSL within a 4.5-mile radius of the Wilmington Air Park, excluding that portion of airspace within a 1-mile radius of Hollister Field Airport. This Class D airspace area is effective during the specific dates and times established in advance by a Notice to Airmen. The effective date and time will thereafter be continuously published in the Chart Supplement.

Paragraph 6002 Class E Airspace Areas Designated as a Surface Area.

* * * * *

AGL OH E2 Dayton, OH [Amended]

Wright-Patterson AFB, OH

(Lat. 39°49′33″ N, long. 84°02′46″ W)

That airspace extending upward from the surface to and including 3,400 feet MSL within a 4.6-mile radius of Wright-Patterson AFB, and within 1.2 miles each side of the 046° bearing from the airport extending from the 4.6-mile radius to 5.2 miles northeast of the airport, and within 1.2 miles each side of the 228° bearing from the airport extending from the 4.6-mile radius to 4.8 miles southwest of the airport excluding that airspace within the Dayton, James M. Cox-Dayton International Airport, OH, Class C airspace area. This Class E airspace area is effective during the specific dates and times established in advance by Notice to Airmen. The effective date and time will thereafter be continuously published in the Chart Supplement.

* * * * *

AGL OH E2 Wilmington, OH [Amended]

Wilmington Air Park, OH

(Lat. 39°25′41″ N, long. 083°47′32″ W)

Hollister Field Airport, OH

(Lat. 39°26′15″ N, long. 083°42′30″ W)

That airspace extending upward from the surface to and including 3,600 feet MSL within a 4.5-mile radius of the Wilmington Air Park, excluding that portion of airspace within a 1-mile radius of Hollister Field Airport. This Class E airspace area is effective during the specific dates and times established in advance by a Notice to Airmen. The effective date and time will thereafter be continuously published in the Chart Supplement.

Paragraph 6004 Class E Airspace Areas Designated as an Extension to a Class D or Class E Surface Area.

* * * * *

AGL OH E4 Wilmington, OH [Removed]

Paragraph 6005 Class E Airspace Areas Extending Upward From 700 Feet or More Above the Surface of the Earth.

* * * * *

AGL OH E5 Dayton, OH [Amended]

Dayton-Phillipsburg Airport, OH

(Lat. 39°54′48″ N, long. 84°24′01″ W)

That airspace extending upward from 700 feet above the surface within a 6.2-mile radius of the Dayton-Phillipsburg Airport.

AGL OH E5 Dayton, OH [Amended]

Dayton-Wright Brothers Airport, OH

(Lat. 39°35′20″ N, long. 84°13′30″ W)

Onida NDB

(Lat. 39°34′41″ N, long. 84°19′25″ W)

That airspace extending upward from 700 feet above the surface within a 6.5-mile radius of the Dayton-Wright Brothers Airport, and within 1.6 miles each side of the 261° bearing from the Onida NDB extending from the 6.5-mile radius of the airport to 9.1 miles west of the airport.

AGL OH E5 Dayton, OH [Amended]

Greene County-Lewis A. Jackson Regional Airport, OH

(Lat. 39°41′27″ N, long. 83°59′34″ W)

That airspace extending upward from 700 feet above the surface within a 6.5-mile radius of the Greene County-Lewis A. Jackson Regional Airport, and within 1 mile either side of the 243° bearing from the airport extending from the 6.5-mile radius to 8.1 miles southwest of the airport.

AGL OH E5 Dayton, OH [Amended]

James M. Cox Dayton International Airport, OH

(Lat. 39°54′08″ N, long. 84°13′10″ W)

Wright-Patterson AFB, OH

(Lat. 39°49′33″ N, long. 84°02′46″ W)

James M. Cox Dayton International Airport: RWY 24R-LOC

(Lat. 39°53′37″ N, long. 84°14′57″ W)

That airspace extending upward from 700 feet above the surface within a 7.5-mile radius of James M. Cox Dayton International Airport, and within 3 miles each side of the 235° bearing from the James M. Cox Dayton International Airport: RWY 24R-LOC extending from the 7.5-mile radius of James M. Cox Dayton International Airport to 13.2 miles southwest of the James M. Cox Dayton International Airport: RWY 24R-LOC, and within a 7.1-mile radius of Wright Patterson AFB.

* * * * *

AGL OH E5 Springfield, OH [Establish]

Springfield-Beckley Municipal Airport, OH

(Lat. 39°50′25″ N, long. 83°50′25″ W)

Clark County NDB

(Lat. 39°52′25″ N, long. 83°46′46″ W)

That airspace extending upward from 700 feet above the surface within a 6.9-mile radius of Springfield-Beckley Municipal Airport, and within 4 miles each side of the 056° bearing from the Clark County NDB extending from the 6.9-mile radius of the Springfield-Beckley Municipal Airport to 10.7 miles from the Clark County NDB.

* * * * *

AGL OH E5 Urbana, OH [Amended]

Grimes Field, OH

(Lat. 40°07′57″ N, long. 83°45′15″ W)

That airspace extending upward from 700 feet above the surface within a 6.5-mile radius of Grimes Field.

* * * * *

AGL OH E5 Wilmington, OH [Amended]

Wilmington Air Park, OH

(Lat. 39°25′41″ N, long. 083°47′32″ W)

That airspace extending upward from 700 feet above the surface within a 7-mile radius of Wilmington Air Park, and within 4 miles each side of the 037° bearing from the airport extending from the 7-mile radius to 10.3 miles northeast of the airport.

Issued in Fort Worth, Texas, on July 20, 2020.
Martin A. Skinner,
Acting Manager, Operations Support Group, ATO Central Service Center.

[FR Doc. 2020-15946 Filed 7-23-20; 8:45 am]

BILLING CODE 4910-13-P